DEPARTMENT OF ENERGY

Federal Energy Regulatory Commission

[Docket No. RP00-336-020]

El Paso Natural Gas Company; Notice of Compliance Filing

October 9, 2003.

Take notice that on October 6, 2003, El Paso Natural Gas Company (El Paso) tendered for filing as part of its FERC Gas Tariff, Second Revised Volume No. 1A, Second Sub First Revised Sheet No. 113D, with an effective date of September 1, 2003.

El Paso states that the tariff sheet is being filed to implement the capacity allocation changes in compliance with the Commission's August 29, 2003 order in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: October 20, 2003.

Magalie R. Salas,
Secretary.

[FR Doc. E3-00264 Filed 11-14-01; 8:45 am]

BILLING CODE 6717-01-P